DEPARTMENT OF THE TREASURY

Agency Information Collection Activities; Submission for OMB Review; COVID Relief Programs: Homeowner Assistance Fund and Emergency Rental Assistance

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before December 27, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: 1. Title: Emergency Rental Assistance Program (ERA1).

OMB Control Number: 1505-0266.

Type of Review: Extension of a currently approved collection.

Description: On December 27, 2020, the President signed the Consolidated Appropriations Act, 2021 (the “Act”), Public Law 116-260. Division N, Title V, Section 501(a)(1) of the Act established the Emergency Rental Assistance (ERA 1) program and provides $25 billion for the U.S. Department of the Treasury (Treasury) to make payments to States (defined to include the District of Columbia), U.S. Territories (Puerto Rico, U.S. Virgin Islands, Guam, Northern Mariana Islands, and American Samoa), Indian tribes or Tribally Designated Housing Entities, as applicable, the Department of Hawaiian Home Lands, and certain local governments with more than 200,000 residents (collectively the “eligible grantees”) to provide financial assistance and housing stability services to eligible households.

Forms: Award and Payment Forms, Compliance Reporting Forms.

Affected Public: State, Territorial, Tribal, and certain Local Governments.

Estimated Number of Respondents: 5,445.

Frequency of Response: Once, Monthly, Quarterly.

Estimated Total Number of Annual Responses: 6,576.

Estimated Time per Response: 15 minutes to 1 hour for award and payment forms, 4 hours to 30 hours for compliance reporting.

Estimated Total Annual Burden Hours: 49,773.

2. Title: Homeowner Assistance Fund.

OMB Control Number: 1505-0269.

Type of Review: Extension of a currently approved collection.

Description: On March 11, 2021, the President signed the American Rescue Plan Act of 2021 (the “Act”), Public Law 117-2. Title III, Subtitle B, Section 3206 of the Act established the Homeowner Assistance Fund and provides $9.961 billion for the U.S. Department of the Treasury (Treasury) to make payments to States (defined to include the District of Columbia, Puerto Rico, U.S. Virgin Islands, Guam, Northern Mariana Islands, and American Samoa), Indian tribes or Tribally Designated Housing Entities, as applicable, and the Department of Hawaiian Home Lands (collectively the “eligible entities”) to mitigate financial hardships associated with the coronavirus pandemic, including for the purposes of preventing homeowner mortgage delinquencies, defaults, foreclosures, loss of utilities or home energy services, and displacements of homeowners experiencing financial hardship after January 21, 2020, through qualified expenses related to mortgages and housing.

Forms: Award and Payment Forms, Title VI Assurance Form, Grantee Templates and Term Sheets.

Affected Public: State and Tribal Governments.

Estimated Number of Respondents: 651.

Frequency of Response: Once.

Estimated Total Number of Annual Responses: 3,906.

Estimated Time per Response: 15 minutes to 2 hours.

Estimated Total Annual Burden Hours: 2,768.

3. Title: Emergency Rental Assistance Program (ERA2).

OMB Control Number: 1505-0270.

Type of Review: Extension of a currently approved collection.

Description: On March 11, 2021, the President signed the American Rescue Plan Act of 2021 (the “Act”), Public Law 117-2. Title III, Subtitle B, Section 3201 of the Act authorized the Emergency Assistance (ERA 2) program and provides $21.55 billion for the U.S. Department of the Treasury (Treasury) to make payments to States (defined to include the District of Columbia), U.S. Territories (Puerto Rico, U.S. Virgin Islands, Guam, Northern Mariana Islands, and American Samoa), and certain local governments with more than 200,000 residents (collectively the “eligible grantees”) to provide financial assistance and housing stability services to eligible households, and cover the costs for other affordable rental housing and eviction prevention activities for eligible households.

Forms: Awards and Payment Forms, Title VI Assurance Form, Compliance Reporting Forms.

Affected Public: State, Territorial and certain Local Governments.

Estimated Number of Respondents: 2,680.

Frequency of Response: Once, Monthly, Quarterly.

Estimated Total Number of Annual Responses: 4,560.

Estimated Time per Response: 15 minutes for award and payment forms, 30 minutes for Title VI Assurances, 1 hour to 30 hours for compliance reporting.

Estimated Total Annual Burden Hours: 46,973.

Authority: 44 U.S.C. 3501 et seq.

Dated: November 19, 2021.
Molly Stasko,
Treasury PRA Clearance Officer.

[FR Doc. 2021-25713 Filed 11-23-21; 8:45 am]

BILLING CODE 4810-AK-P